DEPARTMENT OF COMMERCE

National Institute of Standards and Technology

Electroshock Weapons Measurement Methods and Issues Public Meeting

AGENCY: National Institute of Standards and Technology (NIST), United States Department of Commerce.

ACTION: Notice of public meeting.

SUMMARY: NIST invites manufacturers of electroshock weapons that deploy skin penetrating barbs for operation to attend a public meeting. The purpose of the meeting is for manufacturers to present to NIST nonproprietary information on their methods of measurement and test of the output of these weapons and associated lessons learned.

DATES: The public meeting will be held on Wednesday, October 21, 2009 from 9 a.m. to 12 p.m.

ADDRESSES: The public meeting will be held at NIST, 100 Bureau Drive, Gaithersburg, MD. Information on accommodations, location, and travel can be found at: http://www.nist.gov/public_affairs/visitor/visitor.htm. Please note admittance instructions under the SUPPLEMENTARY INFORMATION section of this notice.

FOR FURTHER INFORMATION CONTACT: Cindy Stanley at 301-975-2756 or by e-mail at cindy.stanley@nist.gov.

SUPPLEMENTARY INFORMATION: To support the development of rigorous performance requirements for electroshock weapons, the Office of Law Enforcement Standards (OLES) at NIST, is developing methods to measure the current and high-voltage output of these weapons, to calibrate these measurement methods, and to compute measurement uncertainties. NIST is holding this public meeting to obtain individual input from workshop participants on their non-proprietary efforts in these areas.

All visitors to the NIST site are required to pre-register to be admitted. Anyone wishing to attend this meeting must register by close of business Monday, October 19, 2009 in order to attend. Please submit your name, time of arrival, e-mail address and phone number to Cindy Stanley and she will provide you with instructions for admittance. Non-U.S. citizens must also submit their country of citizenship, title, employer/sponsor, and address. Cindy Stanley's e-mail address is cindy.stanley@nist.gov and phone number is 301-975-2756.

Dated: September 23, 2009.
Patrick Gallagher,
Deputy Director.

[FR Doc. E9-23461 Filed 9-28-09; 8:45 am]

BILLING CODE 3510-13-P